DEPARTMENT OF STATE

[Public Notice 8541]

Meeting of the United States-Colombia Environmental Affairs Council and Environmental Cooperation Commission and Request for Comments on the Meeting Agendas

ACTION: Announcement of meetings; solicitation of comments.

SUMMARY: The Department of State and the Office of the United States Trade Representative (USTR) are providing notice that the United States and Colombia intend to hold the first meeting of the Environmental Affairs Council (the “Council”) and the first meeting of the Environmental Cooperation Commission (the “Commission”) on December 18 and 19, 2013. The purpose of the meetings is to review implementation of Chapter 18 (Environment) of the United States-Colombia Trade Promotion Agreement (TPA) and the United States-Colombia Environmental Cooperation Agreement (ECA). The Department of State and USTR invite interested organizations and members of the public to attend the public session and comment on any items that should be included on the meeting agendas.

DATES: The public session of the Council and Commission meetings will be held on December 19, 2013, from 9:30-11:30 a.m. We request comments and suggestions in writing no later than December 12, 2013.

ADDRESSES: The public session of the Council and Commission meetings will be held in the Loy Henderson Conference Room, U.S. Department of State, 2201 C Street NW., Washington, DC. Please submit written comments and suggestions to both:

(1) Rachel Kastenberg, Office of Environmental Quality and Transboundary Issues, U.S. Department of State, by electronic mail at kastenbergRL@state.gov with the subject line “U.S.-Colombia EAC/ECC Meeting”; and

(2) Sarah Stewart, Office of Environment and Natural Resources, Office of the United States Trade Representative, by electronic mail at Sarah_Stewart@ustr.eop.gov with the subject line “U.S.-Colombia EAC/ECC Meeting.” If you have access to the Internet, you can view and comment on this notice by going to: http://www.regulations.gov/#!home and searching on docket number: DOS-2013-0022.

FOR FURTHER INFORMATION CONTACT: Rachel Kastenberg, Telephone (202) 736-7111 or Sarah Stewart, Telephone (202) 395-3858.

SUPPLEMENTARY INFORMATION: The United States-Colombia TPA entered into force on May 15, 2012. Article 18.6 of the TPA establishes an Environmental Affairs Council to discuss the implementation of, and progress under, Chapter 18. The ECA entered into force on June 28, 2013. Article III of the ECA establishes an Environmental Cooperation Commission and makes the Commission responsible for developing a Work Program. Article 18.6 of the TPA and Article VI of the ECA require that meetings of the Council and Commission respectively include a public session, unless the Parties otherwise agree.

If you would like to attend the public session, please notify Rachel Kastenberg at the email addresses listed above under the heading ADDRESSES. Please include your full name and identify any organization or group you represent. In preparing comments, we encourage submitters to refer to:

• Chapter 18 of the TPA,

• The Final Environmental Review of the TPA, and

• The ECA.

These documents are available at: http://www.ustr.gov/trade-agreements/free-trade-agreements/colombia-fta/final-text and http://www.state.gov/e/oes/eqt/trade/c51527.htm

Dated: November 27, 2013.
Deborah Klepp,
Director, Office of Environmental Quality and Transboundary Issues, Department of State.

[FR Doc. 2013-29014 Filed 12-3-13; 8:45 am]

BILLING CODE 4710-09-P